COMMODITY FUTURES TRADING COMMISSION

Sunshine Act Meeting—Closed Meeting

The following notice of a closed meeting is published pursuant to the provisions of the Government in the Sunshine Act, Public Law 94-409, 5 U.S.C. 552b.

AGENCY HOLDING THE MEETING: Commodity Futures Trading Commission.

TIME AND DATE: January 14, 2013 at 10:00 a.m.

PLACE: Three Lafayette Center, 1155 21st St. NW., Washington, DC, 9th Floor Commission Conference Room.

STATUS: Closed.

MATTERS TO BE CONSIDERED: Litigation Matters. In the event that the time or date of this meeting changes, an announcement of the change, along with the new time and place of the meeting will be posted on the Commission's Web site at www.cftc.gov.

CONTACT PERSON FOR MORE INFORMATION: Stacy D. Yochum, Counsel to the Executive Director, 202-418-5157.

Stacy D. Yochum,
Counsel to the Executive Director.

[FR Doc. 2013-00787 Filed 1-11-13; 4:15 pm]

BILLING CODE 6351-01-P